SMALL BUSINESS ADMINISTRATION

RIN 3245-AI02

Small Business Innovation Research Program and Small Business Technology Transfer Program Policy Directive; Correction

AGENCY: Small Business Administration.

ACTION: Notice of technical amendments; request for comments; correction.

SUMMARY: The Small Business Administration (SBA) is correcting a notice that appeared in the Federal Register on April 3, 2023. SBA is amending the Small Business Innovation Research (SBIR) and Small Business Technology Transfer (STTR) programs Policy Directive to incorporate a template for agencies participating in the SBIR or STTR programs (Participating Agencies) to request the disclosure of statutorily required information from SBIR or STTR applicants.

DATES: These revisions to the SBIR/STTR Policy Directive take effect on May 3, 2023, without further action, unless significant adverse comment is received by May 3, 2023. If significant adverse comment is received, SBA will publish a timely withdrawal of the notice in the Federal Register.

ADDRESSES: You may submit comments, identified by number SBA-2023-0004, through the Federal eRulemaking Portal: http://www.regulations.gov. Follow the instructions for submitting comments.

SBA will post all comments on www.regulations.gov. Please do not submit confidential business information (CBI) as defined in the User Notice at www.regulations.gov.

FOR FURTHER INFORMATION CONTACT: Erick Page-Littleford at (202) 718-7738 or erick.page-littleford@sba.gov.

SUPPLEMENTARY INFORMATION: In FR Doc. 2023-06870 appearing on page 19704 in the Federal Register of Monday, April 3, 2023, the following corrections are made:

ADDRESSES [Corrected]

1. On page 19704, in the second column of the ADDRESSES section, the docket number “SBA-XXX-XXXX” is corrected to read “SBA-2023-0004”.

Dated: April 13, 2023.
John R. Williams,
Director, Office of Innovation and Technology.

[FR Doc. 2023-08330 Filed 4-19-23; 8:45 am]

BILLING CODE 8026-09-P